DEPARTMENT OF JUSTICE

Parole Commission

Public Announcement; Pursuant to the Government in the Sunshine Act (Public Law 94-409) [5 U.S.C. Section 552b]

AGENCY: Department of Justice, United States Parole Commission.

TIME AND DATE: 9:30 a.m., Tuesday, July 16, 2002.

PLACE: 5550 Friendship Blvd., Fourth Floor, Chevy Chase, MD 20815.

Status: Open.

Matters to be Considered: The following matters have been placed on the agenda for the open Parole Commission meeting:

1. Approval of minutes of Previous Commission Meeting.

2. Reports from the Chairman, Commissioners, Legal, Chief of Staff, Case Operations, and Administrative Sections.

3. Proposal to adopt retroactive application of 28 CFR § 2.80.

4. Proposals to clarify and make corrections to the following rules: 28 CFR 2.75(a)(1) and (2); 28 CFR 2.80; 28 CFR 2.82(a); 28 CFR 2.86; 28 CFR 2.106(a), (b), and (d); 28 CFR 2.208(f) and 28 CFR 2.219.

Agency Contact: Sam Robertson, Case Operations, United States Parole Commission, (301) 492-5962.

Dated: July 9, 2002.
Michael Stover,
Deputy General Counsel, U.S. Parole Commission.

[FR Doc. 02-17624 Filed 7-10-02; 10:02 am]

BILLING CODE 4410-31-M